DEPARTMENT OF COMMERCE

National Oceanic and Atmospheric Administration

RIN 0648-XC554

Marine Mammals; File No. 17952

AGENCY: National Marine Fisheries Service (NMFS), National Oceanic and Atmospheric Administration (NOAA), Commerce.

ACTION: Notice; receipt of application.

SUMMARY: Notice is hereby given that Daniel P. Costa, Ph.D., Department of Biology and Institute of Marine Sciences, University of California, Santa Cruz, CA 95064, has applied in due form for a permit to conduct research on California sea lions (Zalophus californianus) in California, Oregon and Washington.

DATES: Written, telefaxed, or email comments must be received on or before April 12, 2013.

ADDRESSES: The application and related documents are available for review by selecting “Records Open for Public Comment” from the Features box on the Applications and Permits for Protected Species (APPS) home page, https://apps.nmfs.noaa.gov, and then selecting File No. 17952 from the list of available applications.

These documents are also available upon written request or by appointment in the following offices:

Permits and Conservation Division, Office of Protected Resources, NMFS, 1315 East-West Highway, Room 13705, Silver Spring, MD 20910; phone (301) 427-8401; fax (301) 713-0376;

Northwest Region, NMFS, 7600 Sand Point Way NE., BIN C15700, Bldg. 1, Seattle, WA 98115-0700; phone (206) 526-6150; fax (206) 526-6426; and

Southwest Region, NMFS, 501 West Ocean Blvd., Suite 4200, Long Beach, CA 90802-4213; phone (562) 980-4001; fax (562) 980-4018.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Colette Cairns or Amy Sloan, (301) 427-8401.

SUPPLEMENTARY INFORMATION: The subject permit is requested under the authority of the Marine Mammal Protection Act of 1972, as amended (MMPA; 16 U.S.C. 1361 et seq.), the regulations governing the taking and importing of marine mammals (50 CFR part 216).

The applicant would conduct research on California sea lions (Zalophus californianus) to investigate foraging, diving, energetics, food habits, and at sea distribution along the California coast. Procedures would include capture, sedation, morphometrics, isotope and Evans blue dye administration, blood sampling, tagging/marking, instrument attachment, stomach lavage and enema, urine sampling, swabs, blubber/muscle biopsy, metabolic measurements, doubly-labeled water measurements, hair and vibrissae collection, milk sampling, and scat collection. Up to 100 pups/juveniles and 100 adults would be sampled annually, with some or all of the procedures performed. The applicant also requests authorization to recapture tagged California sea lions throughout their U.S. range. Harassment of up to 8,450 California sea lions, 500 harbor seals (Phoca vitulina), and 300 northern elephant seals (Mirounga angustirostris) annually incidental to these activities is requested. The applicant also requests unintentional research-related mortality of up to 20 California sea lions over the course of the permit. Import and export of pinniped samples is also requested.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: March 8, 2013.
P. Michael Payne,
Chief, Permits and Conservation Division, Office of Protected Resources, National Marine Fisheries Service.

[FR Doc. 2013-05752 Filed 3-12-13; 8:45 am]

BILLING CODE 3510-22-P